POSTAL REGULATORY COMMISSION

39 CFR Part 3020

[Docket Nos. MC2010-21 and CP2010-36]

Update to Product List

AGENCY: Postal Regulatory Commission.

ACTION: Final rule.

SUMMARY: The Commission is updating the competitive product list. This action reflects a publication policy adopted by Commission order. The referenced policy assumes periodic updates. The updates are identified in the body of this document. The competitive product list, which is re-published in its entirety, include these updates.

DATES: Effective Date: December 21, 2018. For applicability dates, see SUPPLEMENTARY INFORMATION.

FOR FURTHER INFORMATION CONTACT: David A. Trissell, General Counsel, at 202-789-6800.

SUPPLEMENTARY INFORMATION:

Applicability Dates: July 2, 2018, Priority Mail Contract 451 (MC2018-184 and CP2018-258); July 2, 2018, Priority Mail Contract 452 (MC2018-185 and CP2018-259); July 6, 2018, Priority Mail Express, Priority Mail & First-Class Package Service Contract 40 (MC2018-187 and CP2018-261); July 9, 2018, Global Expedited Package Services (GEPS)—Non-Published Rates 14 (MC2018-186 and CP2018-260); July 10, 2018, Priority Mail Express & Priority Mail Contract 69 (MC2018-188 and CP2018-262); July 10, 2018, Priority Mail & First-Class Package Service Contract 83 (MC2018-189 and CP2018-263); July 12, 2018, Global Plus 4 Contracts (MC2018-150 and CP2018-216); July 17, 2018, Priority Mail Express & Priority Mail Contract 70 (MC2018-190 and CP2018-264); July 18, 2018, Priority Mail Contract 453 (MC2018-191 and CP2018-267); July 26, 2018, Priority Mail Express, Priority Mail & First-Class Package Service Contract 41 (MC2018-192 and CP2018-270); July 30, 2018, Priority Mail & First-Class Package Service Contract 84 (MC2018-194 and CP2018-272); July 30, 2018, Priority Mail Contract 454 (MC2018-195 and CP2018-273); July 30, 2018, Priority Mail Express, Priority Mail & First-Class Package Service Contract 42 (MC2018-193 and CP2018-271); August 7, 2018, Priority Mail & First-Class Package Service Contract 85 (MC2018-196 and CP2018-274); August 7, 2018, Parcel Select Contract 32 (MC2018-197 and CP2018-275); August 7, 2018, Priority Mail Express, Priority Mail & First-Class Package Service Contract 43 (MC2018-198 and CP2018-276); August 7, 2018, Priority Mail Contract 455 (MC2018-199 and CP2018-277); August 7, 2018, Priority Mail Contract 456 (MC2018-200 and CP2018-278); August 8, 2018, Priority Mail Contract 457 (MC2018-201 and CP2018-279); August 10, 2018, Priority Mail Contract 458 (MC2018-202 and CP2018-281); August 14, 2018, Priority Mail Contract 459 (MC2018-203 and CP2018-282); August 20, 2018, Priority Mail Contract 461 (MC2018-205 and CP2018-285); August 21, 2018, Priority Mail Contract 460 (MC2018-204 and CP2018-284); August 23, 2018, Priority Mail Contract 462 (MC2018-206 and CP2018-288); August 29, 2018, Global Expedited Package Services 10 (MC2018-207 and CP2018-289); August 29, 2018, Priority Mail Express & Priority Mail Contract 71 (MC2018-209 and CP2018-291); August 30, 2018, Priority Mail Contract 463 (MC2018-208 and CP2018-290); September 4, 2018, Priority Mail Express, Priority Mail & First-Class Package Service Contract 44 (MC2018-210 and CP2018-292); September 4, 2018, Priority Mail & First-Class Package Service Contract 86 (MC2018-211 and CP2018-293); September 4, 2018, Priority Mail Express Contract 64 (MC2018-212 and CP2018-294); September 5, 2018, Priority Mail & First-Class Package Service Contract 87 (MC2018-213 and CP2018-295); September 5, 2018, Priority Mail Express & Priority Mail Contract 72 (MC2018-214 and CP2018-296); September 10, 2018, Priority Mail & First-Class Package Service Contract 88 (MC2018-215 and CP2018-297); September 12, 2018, Priority Mail Express Contract 65 (MC2018-217 and CP2018-299); September 12, 2018, Priority Mail Contract 464 (MC2018-218 and CP2018-300); September 24, 2018, Priority Mail Express, Priority Mail & First-Class Package Service Contract 45 (MC2018-216 and CP2018-298); September 25, 2018, Priority Mail & First-Class Package Service Contract 89 (MC2018-219 and CP2018-305); September 26, 2018, Priority Mail Contract 465 (MC2018-220 and CP2018-306); September 27, 2018, Parcel Select Contract 33 (MC2018-221 and CP2018-307).

This document identifies updates to the competitive product list, which appears as 39 CFR Appendix B to Subpart A of Part 3020—Competitive Product List. Publication of the updated product list in the Federal Register is addressed in the Postal Accountability and Enhancement Act (PAEA) of 2006.

Authorization. The Commission process for periodic publication of updates was established in Docket Nos. MC2010-21 and CP2010-36, Order No. 445, April 22, 2010, at 8.

Changes. The competitive product list is being updated by publishing a replacement in its entirety of 39 CFR Appendix B to Subpart A of Part 3020—Competitive Product List. The following products are being added, removed, or moved within the competitive product list:

Competitive Product List

1. Priority Mail Contract 451 (MC2018-184 and CP2018-258) (Order No. 4694), added July 2, 2018.

2. Priority Mail Contract 452 (MC2018-185 and CP2018-259) (Order No. 4695), added July 2, 2018.

3. Priority Mail Express, Priority Mail & First-Class Package Service Contract 40 (MC2018-187 and CP2018-261) (Order No. 4699), added July 6, 2018.

4. Global Expedited Package Services (GEPS)—Non-Published Rates 14 (MC2018-186 and CP2018-260) (Order No. 4702), added July 9, 2018.

5. Priority Mail Express & Priority Mail Contract 69 (MC2018-188 and CP2018-262) (Order No. 4704), added July 10, 2018.

6. Priority Mail & First-Class Package Service Contract 83 (MC2018-189 and CP2018-263) (Order No. 4705), added July 10, 2018.

7. Global Plus 4 Contracts (MC2018-150 and CP2018-216) (Order No. 4709), added July 12, 2018.

8. Priority Mail Express & Priority Mail Contract 70 (MC2018-190 and CP2018-264) (Order No. 4715), added July 17, 2018.

9. Priority Mail Contract 453 (MC2018-191 and CP2018-267) (Order No. 4716), added July 18, 2018.

10. Priority Mail Express, Priority Mail & First-Class Package Service Contract 41 (MC2018-192 and CP2018-270) (Order No. 4729), added July 26, 2018.

11. Priority Mail & First-Class Package Service Contract 84 (MC2018-194 and CP2018-272) (Order No. 4733), added July 30, 2018.

12. Priority Mail Contract 454 (MC2018-195 and CP2018-273) (Order No. 4734), added July 30, 2018.

13. Priority Mail Express, Priority Mail & First-Class Package Service Contract 42 (MC2018-193 and CP2018-271) (Order No. 4736), added July 30, 2018.

14. Priority Mail & First-Class Package Service Contract 85 (MC2018-196 and CP2018-274) (Order No. 4743), added August 7, 2018.

15. Parcel Select Contract 32 (MC2018-197 and CP2018-275) (Order No. 4744), added August 7, 2018.

16. Priority Mail Express, Priority Mail & First-Class Package Service Contract 43 (MC2018-198 and CP2018-276) (Order No. 4745), added August 7, 2018.

17. Priority Mail Contract 455 (MC2018-199 and CP2018-277) (Order No. 4746), added August 7, 2018.

18. Priority Mail Contract 456 (MC2018-200 and CP2018-278) (Order No. 4747), added August 7, 2018.

19. Priority Mail Contract 457 (MC2018-201 and CP2018-279) (Order No. 4749), added August 8, 2018.

20. Priority Mail Contract 458 (MC2018-202 and CP2018-281) (Order No. 4754), added August 10, 2018.

21. Priority Mail Contract 459 (MC2018-203 and CP2018-282) (Order No. 4760), added August 14, 2018.

22. Priority Mail Contract 461 (MC2018-205 and CP2018-285) (Order No. 4768), added August 20, 2018.

23. Priority Mail Contract 460 (MC2018-204 and CP2018-284) (Order No. 4770), added August 21, 2018.

24. Priority Mail Contract 462 (MC2018-206 and CP2018-288) (Order No. 4791), added August 23, 2018.

25. Global Expedited Package Services 10 (MC2018-207 and CP2018-289) (Order No. 4800), added August 29, 2018.

26. Priority Mail Express & Priority Mail Contract 71 (MC2018-209 and CP2018-291) (Order No. 4801), added August 29, 2018.

27. Priority Mail Contract 463 (MC2018-208 and CP2018-290) (Order No. 4804), added August 30, 2018.

28. Priority Mail Express, Priority Mail & First-Class Package Service Contract 44 (MC2018-210 and CP2018-292) (Order No. 4809), added September 4, 2018.

29. Priority Mail & First-Class Package Service Contract 86 (MC2018-211 and CP2018-293) (Order No. 4810), added September 4, 2018.

30. Priority Mail Express Contract 64 (MC2018-212 and CP2018-294) (Order No. 4811), added September 4, 2018.

31. Priority Mail & First-Class Package Service Contract 87 (MC2018-213 and CP2018-295) (Order No. 4813), added September 5, 2018.

32. Priority Mail Express & Priority Mail Contract 72 (MC2018-214 and CP2018-296) (Order No. 4814), added September 5, 2018.

33. Priority Mail & First-Class Package Service Contract 88 (MC2018-215 and CP2018-297) (Order No. 4817), added September 10, 2018.

34. Priority Mail Express Contract 65 (MC2018-217 and CP2018-299) (Order No. 4820), added September 12, 2018.

35. Priority Mail Contract 464 (MC2018-218 and CP2018-300) (Order No. 4821), added September 12, 2018.

36. Priority Mail Express, Priority Mail & First-Class Package Service Contract 45 (MC2018-216 and CP2018-298) (Order No. 4833), added September 24, 2018.

37. Priority Mail & First-Class Package Service Contract 89 (MC2018-219 and CP2018-305) (Order No. 4835), added September 25, 2018.

38. Priority Mail Contract 465 (MC2018-220 and CP2018-306) (Order No. 4839), added September 26, 2018.

39. Parcel Select Contract 33 (MC2018-221 and CP2018-307) (Order No. 4841), added September 27, 2018.

The following negotiated service agreements have expired, or have been terminated early, and are being deleted from the Competitive Product List:

1. Priority Mail Contract 111 (MC2015-30 and CP2015-39) (Order No. 2352).

2. Priority Mail Contract 126 (MC2015-56 and CP2015-84) (Order No. 2559).

3. Priority Mail Contract 127 (MC2015-60 and CP2015-90) (Order No. 2570).

4. Priority Mail & First-Class Package Service Contract 6 (MC2015-63 and CP2015-94) (Order No. 2583).

5. Priority Mail Contract 130 (MC2015-64 and CP2015-95) (Order No. 2595).

6. Priority Mail Contract 131 (MC2015-65 and CP2015-96) (Order No. 2596).

7. Priority Mail Contract 134 (MC2015-70 and CP2015-108) (Order No. 2637).

8. Priority Mail Contract 138 (MC2015-74 and CP2015-112) (Order No. 2640).

9. Priority Mail & First-Class Package Service Contract 7 (MC2015-75 and CP2015-114) (Order No. 2641).

10. Priority Mail Contract 137 (MC2015-73 and CP2015-111) (Order No. 2642).

11. Priority Mail Contract 140 (MC2015-79 and CP2015-126) (Order No. 2680).

12. Priority Mail Contract 141 (MC2015-80 and CP2015-134) (Order No. 2706).

13. Priority Mail Contract 144 (MC2015-84 and CP2015-140) (Order No. 2734).

14. Parcel Select Contract 24 (MC2018-13 and CP2018-26) (Order No. 4196).

Updated product list. The referenced changes to the competitive product list is incorporated into 39 CFR Appendix B to Subpart A of Part 3020—Competitive Product List.

List of Subjects in 39 CFR Part 3020

Administrative practice and procedure, Postal Service.

For the reasons discussed in the preamble, the Postal Regulatory Commission amends chapter III of title 39 of the Code of Federal Regulations as follows:

PART 3020—PRODUCT LISTS

1. The authority citation for part 3020 continues to read as follows:

Authority: 39 U.S.C. 503; 3622; 3631; 3642; 3682.

2. Revise Appendix B to Subpart A of Part 3020 to read as follows:

Appendix B to Subpart A of Part 3020—Competitive Product List

(An asterisk (*) indicates an organizational class or group, not a Postal Service product.)

Domestic Products*

Priority Mail Express

Priority Mail

Parcel Select

Parcel Return Service

First-Class Package Service

USPS Retail Ground

International Products*

Outbound International Expedited Services

Inbound Parcel Post (at UPU rates)

Outbound Priority Mail International

International Priority Airmail (IPA)

International Surface Air List (ISAL)

International Direct Sacks—M-Bags

Outbound Single-Piece First-Class Package International Service

Negotiated Service Agreements*

Domestic*

Priority Mail Express Contract 26

Priority Mail Express Contract 27

Priority Mail Express Contract 28

Priority Mail Express Contract 29

Priority Mail Express Contract 30

Priority Mail Express Contract 31

Priority Mail Express Contract 32

Priority Mail Express Contract 34

Priority Mail Express Contract 35

Priority Mail Express Contract 36

Priority Mail Express Contract 37

Priority Mail Express Contract 38

Priority Mail Express Contract 39

Priority Mail Express Contract 40

Priority Mail Express Contract 41

Priority Mail Express Contract 42

Priority Mail Express Contract 43

Priority Mail Express Contract 44

Priority Mail Express Contract 45

Priority Mail Express Contract 46

Priority Mail Express Contract 47

Priority Mail Express Contract 48

Priority Mail Express Contract 49

Priority Mail Express Contract 50

Priority Mail Express Contract 51

Priority Mail Express Contract 52

Priority Mail Express Contract 53

Priority Mail Express Contract 54

Priority Mail Express Contract 55

Priority Mail Express Contract 56

Priority Mail Express Contract 57

Priority Mail Express Contract 58

Priority Mail Express Contract 59

Priority Mail Express Contract 60

Priority Mail Express Contract 61

Priority Mail Express Contract 62

Priority Mail Express Contract 63

Priority Mail Express Contract 64

Priority Mail Express Contract 65

Parcel Return Service Contract 5

Parcel Return Service Contract 6

Parcel Return Service Contract 7

Parcel Return Service Contract 8

Parcel Return Service Contract 9

Parcel Return Service Contract 10

Priority Mail Contract 77

Priority Mail Contract 78

Priority Mail Contract 80

Priority Mail Contract 123

Priority Mail Contract 125

Priority Mail Contract 132

Priority Mail Contract 133

Priority Mail Contract 136

Priority Mail Contract 145

Priority Mail Contract 146

Priority Mail Contract 148

Priority Mail Contract 149

Priority Mail Contract 150

Priority Mail Contract 153

Priority Mail Contract 154

Priority Mail Contract 155

Priority Mail Contract 156

Priority Mail Contract 157

Priority Mail Contract 158

Priority Mail Contract 159

Priority Mail Contract 160

Priority Mail Contract 161

Priority Mail Contract 163

Priority Mail Contract 164

Priority Mail Contract 166

Priority Mail Contract 167

Priority Mail Contract 168

Priority Mail Contract 169

Priority Mail Contract 170

Priority Mail Contract 171

Priority Mail Contract 172

Priority Mail Contract 174

Priority Mail Contract 175

Priority Mail Contract 176

Priority Mail Contract 177

Priority Mail Contract 178

Priority Mail Contract 179

Priority Mail Contract 180

Priority Mail Contract 181

Priority Mail Contract 185

Priority Mail Contract 186

Priority Mail Contract 188

Priority Mail Contract 189

Priority Mail Contract 190

Priority Mail Contract 191

Priority Mail Contract 192

Priority Mail Contract 193

Priority Mail Contract 194

Priority Mail Contract 195

Priority Mail Contract 196

Priority Mail Contract 197

Priority Mail Contract 198

Priority Mail Contract 199

Priority Mail Contract 200

Priority Mail Contract 201

Priority Mail Contract 202

Priority Mail Contract 203

Priority Mail Contract 204

Priority Mail Contract 205

Priority Mail Contract 206

Priority Mail Contract 207

Priority Mail Contract 208

Priority Mail Contract 209

Priority Mail Contract 210

Priority Mail Contract 211

Priority Mail Contract 212

Priority Mail Contract 213

Priority Mail Contract 215

Priority Mail Contract 216

Priority Mail Contract 217

Priority Mail Contract 218

Priority Mail Contract 219

Priority Mail Contract 220

Priority Mail Contract 221

Priority Mail Contract 222

Priority Mail Contract 223

Priority Mail Contract 224

Priority Mail Contract 225

Priority Mail Contract 226

Priority Mail Contract 227

Priority Mail Contract 229

Priority Mail Contract 230

Priority Mail Contract 231

Priority Mail Contract 232

Priority Mail Contract 233

Priority Mail Contract 234

Priority Mail Contract 235

Priority Mail Contract 236

Priority Mail Contract 237

Priority Mail Contract 238

Priority Mail Contract 239

Priority Mail Contract 240

Priority Mail Contract 242

Priority Mail Contract 243

Priority Mail Contract 244

Priority Mail Contract 245

Priority Mail Contract 246

Priority Mail Contract 247

Priority Mail Contract 248

Priority Mail Contract 249

Priority Mail Contract 250

Priority Mail Contract 251

Priority Mail Contract 252

Priority Mail Contract 253

Priority Mail Contract 254

Priority Mail Contract 255

Priority Mail Contract 256

Priority Mail Contract 257

Priority Mail Contract 258

Priority Mail Contract 259

Priority Mail Contract 260

Priority Mail Contract 261

Priority Mail Contract 262

Priority Mail Contract 263

Priority Mail Contract 264

Priority Mail Contract 265

Priority Mail Contract 266

Priority Mail Contract 267

Priority Mail Contract 268

Priority Mail Contract 269

Priority Mail Contract 270

Priority Mail Contract 271

Priority Mail Contract 272

Priority Mail Contract 273

Priority Mail Contract 274

Priority Mail Contract 275

Priority Mail Contract 276

Priority Mail Contract 277

Priority Mail Contract 278

Priority Mail Contract 279

Priority Mail Contract 280

Priority Mail Contract 281

Priority Mail Contract 282

Priority Mail Contract 283

Priority Mail Contract 284

Priority Mail Contract 285

Priority Mail Contract 286

Priority Mail Contract 287

Priority Mail Contract 288

Priority Mail Contract 289

Priority Mail Contract 290

Priority Mail Contract 292

Priority Mail Contract 293

Priority Mail Contract 294

Priority Mail Contract 295

Priority Mail Contract 297

Priority Mail Contract 298

Priority Mail Contract 299

Priority Mail Contract 300

Priority Mail Contract 301

Priority Mail Contract 302

Priority Mail Contract 303

Priority Mail Contract 304

Priority Mail Contract 305

Priority Mail Contract 306

Priority Mail Contract 307

Priority Mail Contract 308

Priority Mail Contract 309

Priority Mail Contract 310

Priority Mail Contract 311

Priority Mail Contract 312

Priority Mail Contract 313

Priority Mail Contract 314

Priority Mail Contract 315

Priority Mail Contract 316

Priority Mail Contract 317

Priority Mail Contract 318

Priority Mail Contract 319

Priority Mail Contract 320

Priority Mail Contract 321

Priority Mail Contract 322

Priority Mail Contract 323

Priority Mail Contract 324

Priority Mail Contract 325

Priority Mail Contract 326

Priority Mail Contract 327

Priority Mail Contract 328

Priority Mail Contract 329

Priority Mail Contract 330

Priority Mail Contract 331

Priority Mail Contract 332

Priority Mail Contract 333

Priority Mail Contract 334

Priority Mail Contract 335

Priority Mail Contract 336

Priority Mail Contract 337

Priority Mail Contract 338

Priority Mail Contract 339

Priority Mail Contract 340

Priority Mail Contract 341

Priority Mail Contract 342

Priority Mail Contract 343

Priority Mail Contract 344

Priority Mail Contract 345

Priority Mail Contract 346

Priority Mail Contract 347

Priority Mail Contract 348

Priority Mail Contract 349

Priority Mail Contract 350

Priority Mail Contract 351

Priority Mail Contract 352

Priority Mail Contract 353

Priority Mail Contract 354

Priority Mail Contract 355

Priority Mail Contract 356

Priority Mail Contract 357

Priority Mail Contract 358

Priority Mail Contract 359

Priority Mail Contract 360

Priority Mail Contract 361

Priority Mail Contract 362

Priority Mail Contract 363

Priority Mail Contract 364

Priority Mail Contract 365

Priority Mail Contract 367

Priority Mail Contract 368

Priority Mail Contract 369

Priority Mail Contract 370

Priority Mail Contract 371

Priority Mail Contract 372

Priority Mail Contract 373

Priority Mail Contract 374

Priority Mail Contract 375

Priority Mail Contract 376

Priority Mail Contract 377

Priority Mail Contract 378

Priority Mail Contract 379

Priority Mail Contract 380

Priority Mail Contract 381

Priority Mail Contract 382

Priority Mail Contract 383

Priority Mail Contract 384

Priority Mail Contract 385

Priority Mail Contract 386

Priority Mail Contract 387

Priority Mail Contract 388

Priority Mail Contract 389

Priority Mail Contract 390

Priority Mail Contract 391

Priority Mail Contract 392

Priority Mail Contract 393

Priority Mail Contract 394

Priority Mail Contract 395

Priority Mail Contract 396

Priority Mail Contract 397

Priority Mail Contract 398

Priority Mail Contract 399

Priority Mail Contract 400

Priority Mail Contract 401

Priority Mail Contract 402

Priority Mail Contract 403

Priority Mail Contract 404

Priority Mail Contract 405

Priority Mail Contract 406

Priority Mail Contract 407

Priority Mail Contract 408

Priority Mail Contract 409

Priority Mail Contract 410

Priority Mail Contract 411

Priority Mail Contract 412

Priority Mail Contract 413

Priority Mail Contract 414

Priority Mail Contract 415

Priority Mail Contract 416

Priority Mail Contract 417

Priority Mail Contract 418

Priority Mail Contract 419

Priority Mail Contract 420

Priority Mail Contract 421

Priority Mail Contract 422

Priority Mail Contract 423

Priority Mail Contract 424

Priority Mail Contract 425

Priority Mail Contract 426

Priority Mail Contract 427

Priority Mail Contract 428

Priority Mail Contract 429

Priority Mail Contract 430

Priority Mail Contract 431

Priority Mail Contract 432

Priority Mail Contract 433

Priority Mail Contract 434

Priority Mail Contract 435

Priority Mail Contract 436

Priority Mail Contract 437

Priority Mail Contract 438

Priority Mail Contract 439

Priority Mail Contract 440

Priority Mail Contract 441

Priority Mail Contract 442

Priority Mail Contract 443

Priority Mail Contract 444

Priority Mail Contract 445

Priority Mail Contract 446

Priority Mail Contract 447

Priority Mail Contract 448

Priority Mail Contract 449

Priority Mail Contract 450

Priority Mail Contract 451

Priority Mail Contract 452

Priority Mail Contract 453

Priority Mail Contract 454

Priority Mail Contract 455

Priority Mail Contract 456

Priority Mail Contract 457

Priority Mail Contract 458

Priority Mail Contract 459

Priority Mail Contract 460

Priority Mail Contract 461

Priority Mail Contract 462

Priority Mail Contract 463

Priority Mail Contract 464

Priority Mail Contract 465

Priority Mail Express & Priority Mail Contract 12

Priority Mail Express & Priority Mail Contract 13

Priority Mail Express & Priority Mail Contract 17

Priority Mail Express & Priority Mail Contract 18

Priority Mail Express & Priority Mail Contract 19

Priority Mail Express & Priority Mail Contract 20

Priority Mail Express & Priority Mail Contract 21

Priority Mail Express & Priority Mail Contract 22

Priority Mail Express & Priority Mail Contract 23

Priority Mail Express & Priority Mail Contract 24

Priority Mail Express & Priority Mail Contract 25

Priority Mail Express & Priority Mail Contract 27

Priority Mail Express & Priority Mail Contract 28

Priority Mail Express & Priority Mail Contract 29

Priority Mail Express & Priority Mail Contract 30

Priority Mail Express & Priority Mail Contract 31

Priority Mail Express & Priority Mail Contract 32

Priority Mail Express & Priority Mail Contract 33

Priority Mail Express & Priority Mail Contract 34

Priority Mail Express & Priority Mail Contract 35

Priority Mail Express & Priority Mail Contract 36

Priority Mail Express & Priority Mail Contract 37

Priority Mail Express & Priority Mail Contract 38

Priority Mail Express & Priority Mail Contract 39

Priority Mail Express & Priority Mail Contract 41

Priority Mail Express & Priority Mail Contract 42

Priority Mail Express & Priority Mail Contract 43

Priority Mail Express & Priority Mail Contract 44

Priority Mail Express & Priority Mail Contract 45

Priority Mail Express & Priority Mail Contract 46

Priority Mail Express & Priority Mail Contract 47

Priority Mail Express & Priority Mail Contract 48

Priority Mail Express & Priority Mail Contract 49

Priority Mail Express & Priority Mail Contract 50

Priority Mail Express & Priority Mail Contract 51

Priority Mail Express & Priority Mail Contract 52

Priority Mail Express & Priority Mail Contract 53

Priority Mail Express & Priority Mail Contract 54

Priority Mail Express & Priority Mail Contract 55

Priority Mail Express & Priority Mail Contract 56

Priority Mail Express & Priority Mail Contract 57

Priority Mail Express & Priority Mail Contract 58

Priority Mail Express & Priority Mail Contract 59

Priority Mail Express & Priority Mail Contract 60

Priority Mail Express & Priority Mail Contract 61

Priority Mail Express & Priority Mail Contract 62

Priority Mail Express & Priority Mail Contract 63

Priority Mail Express & Priority Mail Contract 64

Priority Mail Express & Priority Mail Contract 65

Priority Mail Express & Priority Mail Contract 66

Priority Mail Express & Priority Mail Contract 67

Priority Mail Express & Priority Mail Contract 68

Priority Mail Express & Priority Mail Contract 69

Priority Mail Express & Priority Mail Contract 70

Priority Mail Express & Priority Mail Contract 71

Priority Mail Express & Priority Mail Contract 72

Parcel Select & Parcel Return Service Contract 3

Parcel Select & Parcel Return Service Contract 5

Parcel Select & Parcel Return Service Contract 6

Parcel Select Contract 2

Parcel Select Contract 8

Parcel Select Contract 9

Parcel Select Contract 10

Parcel Select Contract 11

Parcel Select Contract 12

Parcel Select Contract 13

Parcel Select Contract 14

Parcel Select Contract 15

Parcel Select Contract 16

Parcel Select Contract 17

Parcel Select Contract 19

Parcel Select Contract 20

Parcel Select Contract 21

Parcel Select Contract 22

Parcel Select Contract 23

Parcel Select Contract 25

Parcel Select Contract 26

Parcel Select Contract 27

Parcel Select Contract 28

Parcel Select Contract 29

Parcel Select Contract 30

Parcel Select Contract 31

Parcel Select Contract 32

Parcel Select Contract 33

Priority Mail—Non-Published Rates

Priority Mail—Non-Published Rates 1

First-Class Package Service Contract 38

First-Class Package Service Contract 39

First-Class Package Service Contract 40

First-Class Package Service Contract 41

First-Class Package Service Contract 42

First-Class Package Service Contract 43

First-Class Package Service Contract 44

First-Class Package Service Contract 45

First-Class Package Service Contract 46

First-Class Package Service Contract 47

First-Class Package Service Contract 48

First-Class Package Service Contract 49

First-Class Package Service Contract 50

First-Class Package Service Contract 51

First-Class Package Service Contract 52

First-Class Package Service Contract 53

First-Class Package Service Contract 54

First-Class Package Service Contract 55

First-Class Package Service Contract 57

First-Class Package Service Contract 59

First-Class Package Service Contract 60

First-Class Package Service Contract 61

First-Class Package Service Contract 62

First-Class Package Service Contract 63

First-Class Package Service Contract 64

First-Class Package Service Contract 65

First-Class Package Service Contract 66

First-Class Package Service Contract 67

First-Class Package Service Contract 68

First-Class Package Service Contract 69

First-Class Package Service Contract 71

First-Class Package Service Contract 72

First-Class Package Service Contract 73

First-Class Package Service Contract 74

First-Class Package Service Contract 75

First-Class Package Service Contract 76

First-Class Package Service Contract 77

First-Class Package Service Contract 78

First-Class Package Service Contract 79

First-Class Package Service Contract 80

First-Class Package Service Contract 81

First-Class Package Service Contract 82

First-Class Package Service Contract 83

First-Class Package Service Contract 84

First-Class Package Service Contract 85

First-Class Package Service Contract 86

First-Class Package Service Contract 87

First-Class Package Service Contract 88

First-Class Package Service Contract 89

First-Class Package Service Contract 90

First-Class Package Service Contract 91

First-Class Package Service Contract 92

First-Class Package Service Contract 93

First-Class Package Service Contract 94

Priority Mail Express, Priority Mail & First-Class Package Service Contract 5

Priority Mail Express, Priority Mail & First-Class Package Service Contract 6

Priority Mail Express, Priority Mail & First-Class Package Service Contract 7

Priority Mail Express, Priority Mail & First-Class Package Service Contract 8

Priority Mail Express, Priority Mail & First-Class Package Service Contract 9

Priority Mail Express, Priority Mail & First-Class Package Service Contract 10

Priority Mail Express, Priority Mail & First-Class Package Service Contract 11

Priority Mail Express, Priority Mail & First-Class Package Service Contract 12

Priority Mail Express, Priority Mail & First-Class Package Service Contract 13

Priority Mail Express, Priority Mail & First-Class Package Service Contract 14

Priority Mail Express, Priority Mail & First-Class Package Service Contract 15

Priority Mail Express, Priority Mail & First-Class Package Service Contract 16

Priority Mail Express, Priority Mail & First-Class Package Service Contract 17

Priority Mail Express, Priority Mail & First-Class Package Service Contract 18

Priority Mail Express, Priority Mail & First-Class Package Service Contract 19

Priority Mail Express, Priority Mail & First-Class Package Service Contract 20

Priority Mail Express, Priority Mail & First-Class Package Service Contract 21

Priority Mail Express, Priority Mail & First-Class Package Service Contract 22

Priority Mail Express, Priority Mail & First-Class Package Service Contract 23

Priority Mail Express, Priority Mail & First-Class Package Service Contract 24

Priority Mail Express, Priority Mail & First-Class Package Service Contract 25

Priority Mail Express, Priority Mail & First-Class Package Service Contract 26

Priority Mail Express, Priority Mail & First-Class Package Service Contract 27

Priority Mail Express, Priority Mail & First-Class Package Service Contract 28

Priority Mail Express, Priority Mail & First-Class Package Service Contract 29

Priority Mail Express, Priority Mail & First-Class Package Service Contract 30

Priority Mail Express, Priority Mail & First-Class Package Service Contract 31

Priority Mail Express, Priority Mail & First-Class Package Service Contract 32

Priority Mail Express, Priority Mail & First-Class Package Service Contract 33

Priority Mail Express, Priority Mail & First-Class Package Service Contract 34

Priority Mail Express, Priority Mail & First-Class Package Service Contract 35

Priority Mail Express, Priority Mail & First-Class Package Service Contract 36

Priority Mail Express, Priority Mail & First-Class Package Service Contract 37

Priority Mail Express, Priority Mail & First-Class Package Service Contract 38

Priority Mail Express, Priority Mail & First-Class Package Service Contract 39

Priority Mail Express, Priority Mail & First-Class Package Service Contract 40

Priority Mail Express, Priority Mail & First-Class Package Service Contract 41

Priority Mail Express, Priority Mail & First-Class Package Service Contract 42

Priority Mail Express, Priority Mail & First-Class Package Service Contract 43

Priority Mail Express, Priority Mail & First-Class Package Service Contract 44

Priority Mail Express, Priority Mail & First-Class Package Service Contract 45

Priority Mail & First-Class Package Service Contract 4

Priority Mail & First-Class Package Service Contract 8

Priority Mail & First-Class Package Service Contract 9

Priority Mail & First-Class Package Service Contract 10

Priority Mail & First-Class Package Service Contract 11

Priority Mail & First-Class Package Service Contract 13

Priority Mail & First-Class Package Service Contract 15

Priority Mail & First-Class Package Service Contract 16

Priority Mail & First-Class Package Service Contract 17

Priority Mail & First-Class Package Service Contract 18

Priority Mail & First-Class Package Service Contract 19

Priority Mail & First-Class Package Service Contract 20

Priority Mail & First-Class Package Service Contract 21

Priority Mail & First-Class Package Service Contract 22

Priority Mail & First-Class Package Service Contract 23

Priority Mail & First-Class Package Service Contract 24

Priority Mail & First-Class Package Service Contract 25

Priority Mail & First-Class Package Service Contract 26

Priority Mail & First-Class Package Service Contract 27

Priority Mail & First-Class Package Service Contract 28

Priority Mail & First-Class Package Service Contract 29

Priority Mail & First-Class Package Service Contract 30

Priority Mail & First-Class Package Service Contract 31

Priority Mail & First-Class Package Service Contract 32

Priority Mail & First-Class Package Service Contract 33

Priority Mail & First-Class Package Service Contract 34

Priority Mail & First-Class Package Service Contract 35

Priority Mail & First-Class Package Service Contract 36

Priority Mail & First-Class Package Service Contract 37

Priority Mail & First-Class Package Service Contract 38

Priority Mail & First-Class Package Service Contract 39

Priority Mail & First-Class Package Service Contract 40

Priority Mail & First-Class Package Service Contract 42

Priority Mail & First-Class Package Service Contract 43

Priority Mail & First-Class Package Service Contract 44

Priority Mail & First-Class Package Service Contract 45

Priority Mail & First-Class Package Service Contract 46

Priority Mail & First-Class Package Service Contract 47

Priority Mail & First-Class Package Service Contract 48

Priority Mail & First-Class Package Service Contract 49

Priority Mail & First-Class Package Service Contract 50

Priority Mail & First-Class Package Service Contract 51

Priority Mail & First-Class Package Service Contract 52

Priority Mail & First-Class Package Service Contract 53

Priority Mail & First-Class Package Service Contract 54

Priority Mail & First-Class Package Service Contract 55

Priority Mail & First-Class Package Service Contract 56

Priority Mail & First-Class Package Service Contract 57

Priority Mail & First-Class Package Service Contract 58

Priority Mail & First-Class Package Service Contract 59

Priority Mail & First-Class Package Service Contract 60

Priority Mail & First-Class Package Service Contract 61

Priority Mail & First-Class Package Service Contract 62

Priority Mail & First-Class Package Service Contract 63

Priority Mail & First-Class Package Service Contract 64

Priority Mail & First-Class Package Service Contract 65

Priority Mail & First-Class Package Service Contract 66

Priority Mail & First-Class Package Service Contract 67

Priority Mail & First-Class Package Service Contract 68

Priority Mail & First-Class Package Service Contract 69

Priority Mail & First-Class Package Service Contract 70

Priority Mail & First-Class Package Service Contract 71

Priority Mail & First-Class Package Service Contract 72

Priority Mail & First-Class Package Service Contract 73

Priority Mail & First-Class Package Service Contract 74

Priority Mail & First-Class Package Service Contract 75

Priority Mail & First-Class Package Service Contract 76

Priority Mail & First-Class Package Service Contract 77

Priority Mail & First-Class Package Service Contract 78

Priority Mail & First-Class Package Service Contract 79

Priority Mail & First-Class Package Service Contract 80

Priority Mail & First-Class Package Service Contract 81

Priority Mail & First-Class Package Service Contract 82

Priority Mail & First-Class Package Service Contract 83

Priority Mail & First-Class Package Service Contract 84

Priority Mail & First-Class Package Service Contract 85

Priority Mail & First-Class Package Service Contract 86

Priority Mail & First-Class Package Service Contract 87

Priority Mail & First-Class Package Service Contract 88

Priority Mail & First-Class Package Service Contract 89

Priority Mail & Parcel Select Contract 1

Priority Mail & Parcel Select Contract 2

Priority Mail Express & First-Class Package Service Contract 1

Priority Mail Express & First-Class Package Service Contract 2

Priority Mail Express & First-Class Package Service Contract 3

Outbound International*

Global Expedited Package Services (GEPS) Contracts

GEPS 3

GEPS 5

GEPS 6

GEPS 7

GEPS 8

GEPS 9

GEPS 10

Global Bulk Economy (GBE) Contracts

Global Plus Contracts

Global Plus 1C

Global Plus 1D

Global Plus 1E

Global Plus 2C

Global Plus 3

Global Plus 4

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Global Expedited Package Services (GEPS)—Non-Published Rates 8

Global Expedited Package Services (GEPS)—Non-Published Rates 9

Global Expedited Package Services (GEPS)—Non-Published Rates 10

Global Expedited Package Services (GEPS)—Non-Published Rates 11

Global Expedited Package Services (GEPS)—Non-Published Rates 12

Global Expedited Package Services (GEPS)—Non-Published Rates 13

Global Expedited Package Services (GEPS)—Non-Published Rates 14

Priority Mail International Regional Rate Boxes—Non-Published Rates

Outbound Competitive International Merchandise Return Service Agreement with Royal Mail Group, Ltd.

Priority Mail International Regional Rate Boxes Contracts

Priority Mail International Regional Rate Boxes Contracts 1

Competitive International Merchandise Return Service Agreements with Foreign Postal Operators 1

Competitive International Merchandise Return Service Agreements with Foreign Postal Operators 1

Competitive International Merchandise Return Service Agreements with Foreign Postal Operators 2

Alternative Delivery Provider (ADP) Contracts ADP 1

Alternative Delivery Provider Reseller (ADPR) Contracts ADPR 1

Inbound International*

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Royal Mail Group Inbound Air Parcel Post Agreement

Inbound Competitive Multi-Service Agreements with Foreign Postal Operators

Inbound Competitive Multi-Service Agreements with Foreign Postal Operators 1

Special Services*

Address Enhancement Services

Greeting Cards, Gift Cards, and Stationery

International Ancillary Services

International Money Transfer Service—Outbound

International Money Transfer Service—Inbound

Premium Forwarding Service

Shipping and Mailing Supplies

Post Office Box Service

Competitive Ancillary Services

Nonpostal Services*

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

Market Tests*

Customized Delivery

Global eCommerce Marketplace (GeM)

Stacy L. Ruble,
Secretary.

[FR Doc. 2018-27593 Filed 12-20-18; 8:45 am]

BILLING CODE 7710-FW-P